COMMITTEE FOR PURCHASE FROM PEOPLE WHO ARE BLIND OR SEVERELY DISABLED

Procurement List Proposed Additions and Deletions

AGENCY: Committee for Purchase From People Who Are Blind or Severely Disabled.

ACTION: Proposed additions to and deletions from procurement list.

SUMMARY: The Committee is proposing to add to the Procurement List services to be furnished by nonprofit agencies employing persons who are blind or have other severe disabilities, and to delete products and a service previously furnished by such agencies.

DATES: Comments Must Be Received on or Before: 8/10/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location:

Janitorial Services: Pacific Heights Entrance Point, Facility Number 1300, San Pedro, CA.

Pacific Crest Entrance Point, Facility Number 1200, San Pedro, CA.

Fort MacArthur, 2400 South Pacific Ave, San Pedro, CA.

Service Type/Location:

Base Wide Janitorial Service: Los Angeles Air Force Base, 2420 Vela Way, El Segundo, CA.

Service Type/Location:

Hospital Housekeeping Service: 61st Medical Squadron Medical Clinic, Building 30, San Pedro, CA.

NPA: Goodwill Industries of Southern California, Los Angeles, CA.

Contracting Activity: Dept of the Air Force, FA2816 61 CONS LGC, El Segundo, CA.

Service Type/Location:

Mess Attendant Services: Patterson Dining Facility, Building 403, Dover AFB, DE.

NPA: Opportunity Center, Incorporated, Wilmington, DE.

Contracting Activity: Dept of the Air Force, FA4497 436 CONS LGC, Dover AFB, DE.

Service Type/Location:

Custodial Services: Base Wide, Robins AFB, GA.

NPA: Good Vocations, Inc., Macon, GA.

Contracting Activity: Dept of the Air Force, FA8501 WR ALC PKO, Robins AFB, GA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

Illuminator/Corrector Stx and Refills

NSN: 7510-01-390-0709—Illuminator/Corrector Stx and Refills;

NSN: 7520-01-386-2407—Illuminator/Corrector Stx and Refills;

NSN: 7520-01-386-2441—Illuminator/Corrector Stx and Refills.

NPA: San Antonio Lighthouse for the Blind, San Antonio, TX.

Contracting Activity: GSA/FSS OFC SUP CTR—Paper Products, New York, NY.

Service

Service Type/Location:

Janitorial/Custodial: OSHA Training Center, 1555 Time Drive, Des Plaines, IL.

NPA: Lester and Rosalie Anixter Center, Chicago, IL.

Contracting Activity: Department of Labor, Washington, DC.

Barry S. Lineback,
Director, Business Operations.

[FR Doc. E9-16311 Filed 7-9-09; 8:45 am]

BILLING CODE 6353-01-P